DEFENSE BASE CLOSURE AND REALIGNMENT COMMISSION

Notice of the Defense Base Closure and Realignment Commission—Open Meeting

AGENCY: Defense Base Closure and Realignment Commission.

ACTION: Notice; Defense Base Closure and Realignment Commission—open meeting regarding consideration of certain installations located in the Commonwealth of Virginia not recommended for closure or Realignment by the Secretary of Defense (Washington, DC).

SUMMARY: Notice is hereby given that a delegation of Commissioners of the Defense Base Closure and Realignment Commission will hold an open meeting on August 4, 2005 from 1 p.m. to 2 p.m. at Senate Hart Hearing Room 216, Constitution Avenue, Washington, DC 20510. The delay of this change notice resulted from the short time-frame established by statute for the operations of the Defense Base Closure and Realignment Commission and the necessity of coordinating this meeting with Federal, state and local government officials. The Commission requests that the public consult the 2005 Defense Base Closure and Realignment Commission Web site, http://www.brac.gov, for updates.

The Commission delegation will meet to receive comment from Federal, state and local government representatives and the general public on certain base closure and realignment actions under consideration by the Commission in the Commonwealth of Virginia that were not recommended by the Department of Defense (DoD). The installations concerned are listed in FR Doc. 05-14596, published in the Federal Register of July 22, 2005, on page 42311. The purpose of this regional meeting is to allow communities an opportunity to voice their concerns, counter-arguments, and opinions related to the proposed action in a live public forum. This meeting will be open to the public, subject to the availability of space. Sign language interpretation will be provided. The delegation will not render decisions regarding the DoD recommendations at this meeting, but will gather information for later deliberations by the Commission as a whole.

DATES: August 4, 2005 from 1 p.m. to 2 p.m.

ADDRESSES: Senate Hart Hearing Room 216, Constitution Avenue, Washington, DC 20510.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: July 27, 2005.
Jeannette Owings-Ballard,
Administrative Support Officer.

[FR Doc. 05-15200 Filed 8-1-05; 8:45 am]

BILLING CODE 5001-06-P